DEPARTMENT OF JUSTICE

Notice of Lodging of Consent Decree Under Comprehensive Environmental Response, Compensation and Liability Act

Notice is hereby given that on August 17, 2012, a proposed consent decree in U.S. v. Estate of Lillian Wiesner, et al., No. CV-05-1634, was lodged with the United States District Court for the Eastern District of New York.

In this action the United States seeks recovery, pursuant to the Comprehensive Environmental Response, Compensation, and Liability Act (“CERCLA”), 42 U.S.C. 9601 et seq., of response costs regarding the Stanton Cleaners Area Groundwater Superfund Site in the Town of Great Neck, N.Y. (“Site”). The settlement provides for the defendants Weisner Estate and John P. Maffei to cause to be paid to the United States a total of $756,000. The settlement also provides for defendant Weisner Estate to sell the property upon which the Site is located and to pay the United States 92% of the proceeds of such sale, which payment is expected to total approximately $2.024 million. The settlement resolves the United States' claims against the defendants regarding the Site.

The Department of Justice will receive for a period of 30 days from the date of this publication comments relating to the consent decree. Comments should be addressed to the Assistant Attorney General, Environment and Natural Resources Division, and either emailed to pubcomment-ees.enrd@usdoj.gov or mailed to P.O. Box 7611, U.S. Department of Justice, Washington, DC 20044-7611, and should refer to U.S. v. Estate of Lillian Wiesner, et al., D.J. Ref. 90-11-3-08416.

During the public comment period, the consent decree may also be examined on the following Department of Justice Web site: http://www.usdoj.gov/enrd/Consent_Decrees.html. A copy of the consent decree may also be obtained by mail from the Consent Decree Library, P.O. Box 7611, U.S. Department of Justice, Washington, DC 20044-7611 or by faxing or emailing a request to “Consent Decree Copy” (eescdcopy.enrd@usdoj.gov), fax number (202) 514-0097, phone confirmation number (202) 514-5271. If requesting a copy of the settlement from the Consent Decree Library by mail, please enclose a check in the amount of $11.50 (25 cents per page reproduction cost) payable to the U.S. Treasury or, if requesting by email or fax, forward a check in that amount to the Consent Decree Library at the address given above.

Ronald G. Gluck,
Assistant Section Chief, Environmental Enforcement Section, Environment and Natural Resources Division.

[FR Doc. 2012-20707 Filed 8-22-12; 8:45 am]

BILLING CODE 4410-15-P